DEPARTMENT OF EDUCATION

Applications for New Awards; Expanding Opportunity Through Quality Charter Schools Program (CSP)—State Charter School Facilities Incentive Grant (SFIG) Program

AGENCY: Office of Elementary and Secondary Education, Department of Education

ACTION: Notice.

SUMMARY: The Department of Education (Department) is issuing a notice inviting applications (NIA) for fiscal year (FY) 2025 for the SFIG Program.

DATES:

Applications Available: May 9, 2025.

Deadline for Notice of Intent to Apply: Applicants are strongly encouraged but not required to submit a notice of intent to apply by June 9, 2025.

Application Deadline: July 8, 2025.

Deadline for Intergovernmental Review: September 8, 2025.

ADDRESSES: For the addresses for obtaining and submitting an application, please refer to the Application Submission Instructions section.

FOR FURTHER INFORMATION CONTACT: Clifton Jones, U.S. Department of Education, 400 Maryland Avenue SW, Washington, DC 20202-5970. Telephone: (202) 205-2204. Email: charter.facilities@ed.gov.

If you are deaf, hard of hearing, or have a speech disability and wish to access telecommunications relay services, please dial 7-1-1.

SUPPLEMENTARY INFORMATION:

Full Text of Announcement

I. Funding Opportunity Description

1. Purpose of Program: Through the CSP SFIG program, the Department provides grants on a competitive basis to eligible States ¹ to help them establish or enhance, and administer, a per-pupil facilities aid program for charter schools in the State that is specified in State law and provides annual financing, on a per-pupil basis, for charter school facilities.

¹ Terms defined in this notice are italicized the first time each term is used.

Charter schools that receive financial assistance through CSP SFIG Grants provide elementary or secondary education, or both, and may also serve students in early childhood education programs or postsecondary students.

Assistance Listing Number: 84.282D.

OMB Control Number: 1894-0006.

Note: The table below highlights key aspects of the funding opportunity in this NIA. Applicants are encouraged to thoroughly review this notice for a detailed listing and description of all competition requirements before submitting an application.

Table 1—Funding Opportunity At-a-Glance
Topic | Notes
Application Deadline | All interested applicants must submit applications in Grants.gov no later than 11:59 p.m. Eastern time on July 8, 2025. Complete instructions on how to register and apply can be found at Grants.gov.
Eligibility | States are eligible to apply. In order to be eligible to receive a grant, a State shall establish or enhance, and administer, a per-pupil facilities aid program for charter schools in the State, that— (a) Is specified in State law; and (b) Provides annual financing, on a per-pupil basis, for charter school facilities.
Funding | Estimated Available Funds: $10,000,000. Estimated Range of Awards: $1,000,000 to $10,000,000 per year. Estimated Average Size of Awards: $10,000,000 per year. Estimated Number of Awards: 1-2. The Department is not bound by any estimates in this notice.
Competitive Preference Priorities (CPPs) The full text is in the priorities section below | This notice includes two CPPs. We award additional points to an application that addresses the CPPs. Responding to the CPPs is optional. 1. Capacity of Charter Schools to Offer Public School Choice in Communities with the Greatest Need for Choice (Up to 6 points). 2. Applicants that Have Not Previously Received a SFIG Grant (0 or 3 points).
Application Requirements | Applicants are required to complete the four program specific application package instruction forms. OMB Control Number: 1894-0006. 1. Table 1—Charter School Aid Paid by State. 2. Table 2—Budget Form: Grant Funds Expenditures. 3. Table 3—Grant Funds as a Percentage of the Cost of Per-Pupil Facilities Aid. 4. Program-Specific Assurance.
Selection Criteria The full text is in the selection criteria section below | We evaluate applications using selection criteria. The maximum score for addressing all selection criteria is 100 points. (a) Need for facility funding (30 points). (b) Quality of plan (40 points). (c) The grant project team (10 points). (d) The budget (10 points). (e) State Experience (10 points).
Cost Sharing or Matching | A State must provide a State share of the total cost of the project. The minimum State share of the total cost of the project increases each year of the grant, as follows: • 10 percent in the first year. • 20 percent in the second year. • 40 percent in the third year. • 60 percent in the fourth year. • 80 percent in the fifth year.
Supplement-Not-Supplant | This program involves supplement-not-supplant requirements.

2. Background: Accessing affordable, and appropriate facilities is one of the biggest obstacles to creating and expanding charter schools as cited by charter school leaders.² In 2021, the Government Accountability Office (GAO) issued a report identifying the challenges charter schools encounter with locating and securing charter school facilities and government assistance that can address these challenges, such as per-pupil allowances, which provide extra funds to help cover facility expenses. In the report, the GAO identified the following four challenges unique to charter schools when trying to secure charter school facilities and funding: (1) affordability and limited access to State and local funding, and affordable private loans as well as rising real estate costs and renovation expenses; (2) availability of safe and secure building space and lack of amenities (e.g., a cafeteria or playground), and limited access to buildings; (3) inconsistent assistance for charter school facilities' needs and, (4) limited staff expertise in facilities management.³ This program addresses these challenges by providing grants to encourage States to establish and enhance or administer per-pupil facilities aid programs for charter schools.

² 2024-CSP-Impact-Report.pdf.

³ https://www.gao.gov/assets/gao-21-104446.pdf.

3. Award Information:

Type of Award: Discretionary grants.

Estimated Available Funds: $10,000,000.

Contingent upon the availability of funds and the quality of applications, we may make additional awards in subsequent years from the list of unfunded applications from this competition.

Estimated Range of Awards: $1,000,000 to $10,000,000.

Estimated Average Size of Awards: $10,000,000.

Estimated Number of Awards: 1-2.

Note: The Department is not bound by any estimates in this notice.

Project Period: Up to 60 months.

4. Eligible Applicants: States. In order to be eligible to receive a grant, a State shall establish or enhance, and administer, a per-pupil facilities aid program for charter schools in the State, that—

(a) Is specified in State law; and

(b) Provides annual financing, on a per-pupil basis, for charter school facilities. (ESEA section 4304(k)(4)(B)(i)).

A State that is required under State law to provide charter schools with access to adequate facility space, but that does not have a per-pupil facilities aid program for charter schools specified in State law, is eligible to receive a grant if the State agrees to use the funds to develop a per-pupil facilities aid program consistent with the requirements in this NIA. (ESEA section 4304(k)(4)(B)(ii))

5. Priorities: This notice includes two competitive preference priorities. In accordance with 34 CFR 75.105(b)(2)(ii), these priorities are from 34 CFR 226.14.

Competitive Preference Priorities: For FY 2025 and any subsequent year in which we make awards from the list of unfunded applications from this competition, these priorities are competitive preference priorities. We award up to an additional 6 points, depending on how well an application meets Competitive Preference Priority 1, and 3 additional points to applicants that meet Competitive Preference Priority 2.

These priorities are:

Competitive Preference Priority 1— Capacity of Charter Schools to Offer Public School Choice in Communities with the Greatest Need for Choice (Up to 6 points).

To meet this priority, the applicant must demonstrate the capacity of charter schools to offer public school choice in those communities with the greatest need for this choice based on—

(a) The extent to which the applicant would target services to geographic areas in which a large proportion or number of public schools have been identified for comprehensive support and improvement or targeted support and improvement under the ESEA;

(b) The extent to which the applicant would target services to geographic areas in which a large proportion of students perform poorly on State academic assessments; and

(c) The extent to which the applicant would target services to communities with large proportions of low-income students.

Competitive Preference Priority 2— Applicants that Have Not Previously Received a SFIG Grant (0 or 3 points).

This priority is for applicants that have not previously received a grant under the program.

6.a. Cost Sharing or Matching: Under section 4304(k)(2)(C) of the ESEA, a State must provide a State share of the total cost of the project. The minimum State share of the total cost of the project increases each year of the grant, as follows:

• 10 percent in the first year

• 20 percent in the second year

• 40 percent in the third year

• 60 percent in the fourth year

• 80 percent in the fifth year

A State may partner with one or more organizations, and such organizations may provide up to 50 percent of the State share of the cost of establishing or enhancing, and administering, the per-pupil facilities aid program. (ESEA section 4304(k)(2)(D)).

Note: Applicants that are provisionally selected to receive grants will not receive grant funds unless they demonstrate before grant funds are obligated that they are, or will be able to, provide the State share required under this program.

b. Supplement-Not-Supplant: This program involves supplement-not-supplant funding requirements. Under section 4304(k)(3)(C) of the ESEA (20 U.S.C. 7221c(k)(3)(C)), program funds must be used to supplement, and not supplant, State and local public funds expended to provide per-pupil facilities aid programs, operations financing programs, or other programs, for charter schools. Therefore, the Federal funds provided under this program, as well as the matching funds provided by the grantee, must be in addition to the State and local funds that would otherwise be used for this purpose in the absence of this Federal program. The Department generally considers that State and local funds would be available for this purpose at least in the amount of the funds that was available in the preceding year and that the Federal funds and matching funds under this program would supplement that amount.

c. Indirect Cost Rate Information: This program uses a restricted indirect cost rate. For more information regarding indirect costs, or to obtain a negotiated indirect cost rate, please see https://www.ed.gov/about/ed-offices/ofo#Indirect-Cost-Division.

d. Administrative Cost Limitation: State grantees may use up to five percent of their grant award for administrative expenses that include: indirect costs, evaluation, technical assistance, dissemination, personnel costs, and any other costs involved in administering the State's per-pupil facilities aid program. (34 CFR 226.22)

Charter school subgrantees may use grant funds for administrative costs that are necessary and reasonable for the proper and efficient performance and administration of this Federal grant. This use of funds, as well as indirect costs and rates, must comply with EDGAR and the Uniform Administrative Requirements, Cost Principles, and Audit Requirements for Federal Awards in 2 CFR part 200 (Uniform Guidance), as adopted and amended as regulations of the Department in 2 CFR part 3474.

Consistent with the requirements in 34 CFR 75.564(c)(2), any charter school subgrantees that use grant funds for construction activities may not be reimbursed for indirect costs for those activities. (34 CFR 226.23)

7. Other: a. Build America, Buy America Act: This program is subject to the Build America, Buy America Act (Pub. L. 117-58) domestic sourcing requirements. Accordingly, under this program, grantees and their subrecipients (subgrantees) and contractors may not use their grant funds for infrastructure projects or activities (e.g., construction, remodeling, and broadband infrastructure) unless—

i. All iron and steel used in the infrastructure project or activity are produced in the United States;

ii. All manufactured products used in the infrastructure project or activity are produced in the United States; and

iii. All construction materials are manufactured in the United States.

Grantees may request waivers to these requirements by submitting a Build America, Buy America Act Waiver Request Form. For more information, including a link to the Waiver Request Form, see the Department's Build America Buy America Waiver website at: https://www2.ed.gov/policy/fund/guid/buy-america/index.html.

b. The charter schools that a grantee selects to benefit from this program must meet the definition of “charter school” in section 4310(2) of the ESEA (20 U.S.C. 7221i(2)), which is included in this notice.

8. Definitions:

The following definitions are from sections 4310(1), 4310(2), 4304(k)(1), and 8101(48) of the ESEA (20 U.S.C. 7221i(1), 7221i(2), 7221c(k)(1), 7801)), and 34 CFR 77.1(c).

Ambitious means promoting continued, meaningful improvement for program participants or for other individuals or entities affected by the grant or representing a significant advancement in the field of education research, practices, or methodologies. When used to describe a performance target, whether a performance target is ambitious depends upon the context of the relevant performance measure and the baseline for that measure. (34 CFR 77.1)

Authorized public chartering agency means a State educational agency, local educational agency, or other public entity that has the authority pursuant to State law and approved by the Secretary to authorize or approve a charter school. (Section 4310(1) of the ESEA)

Charter school means a public school that—

(1) In accordance with a specific State statute authorizing the granting of charters to schools, is exempt from significant State or local rules that inhibit the flexible operation and management of public schools, but not from any rules relating to the other requirements in section 4310 of the ESEA;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution;

(6) Does not charge tuition;

(7) Complies with the Age Discrimination Act of 1975 (42 U.S.C. 6101 et seq.), title VI of the Civil Rights Act of 1964 (42 U.S.C. 2000d et seq.), title IX of the Education Amendments of 1972 (20 U.S.C. 1681 et seq.), section 504 of the Rehabilitation Act of 1973 (29 U.S.C. 794), the Americans with Disabilities Act of 1990 (42 U.S.C. 12101 et seq.), section 444 of the General Education Provisions Act (20 U.S.C. 1232g) (commonly referred to as the “Family Educational Rights and Privacy Act of 1974”), and part B of the Individuals with Disabilities Education Act (20 U.S.C. 1411 et seq.);

(8) Is a school to which parents choose to send their children, and that—

(i) Admits students on the basis of a lottery, consistent with section 4303(c)(3)(A) of the ESEA (20 U.S.C. 7221b(c)(3)(A)), if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (h)(i);

(9) Agrees to comply with the same Federal and State audit requirements as do other elementary schools and secondary schools in the State, unless such State audit requirements are waived by the State;

(10) Meets all applicable Federal, State, and local health and safety requirements;

(11) Operates in accordance with State law;

(12) Has a written performance contract with the authorized public chartering agency in the State that includes a description of how student performance will be measured in charter schools pursuant to State assessments that are required of other schools and pursuant to any other assessments mutually agreeable to the authorized public chartering agency and the charter school; and

(13) May serve students in early childhood education programs or postsecondary students. (Section 4310(2) of the ESEA).

Early childhood education program means—

(1) A Head Start program or an Early Head Start program carried out under the Head Start Act (42 U.S.C. 9831 et seq.), including a migrant or seasonal Head Start program, an Indian Head Start program, or a Head Start program or an Early Head Start program that also receives State funding;

(2) A State licensed or regulated child care program; or

(3) A program that (i) serves children from birth through age 6 that addresses the children's cognitive (including language, early literacy, and early mathematics), social, emotional, and physical development; and (ii) is (A) a State prekindergarten program, (B) a program authorized under section 619 (20 U.S.C. 1419) or part C of the IDEA, or (C) a program operated by an LEA (section 8101(16) of the ESEA).

Performance measure means any quantitative indicator, statistic, or metric used to gauge program or project performance. (34 CFR 77.1)

Performance target means a level of performance that an applicant would seek to meet during the course of a project or as a result of a project. (34 CFR 77.1)

Per-pupil facilities aid program means a program in which a State makes payments, on a per-pupil basis, to charter schools to provide the schools with financing—

(1) That is dedicated solely to funding charter school facilities; or

(2) A portion of which is dedicated for funding charter school facilities. (section 4304(k)(1))

Public means as applied to an agency, organization, or institution that the agency, organization, or institution is under the administrative supervision or control of a government other than the Federal Government. (34 CFR 77.1)

State means each of the 50 States, the District of Columbia, the Commonwealth of Puerto Rico, and each of the outlying areas. (section 8101(48) of the ESEA)

9. Selection Criteria: The selection criteria for this program are from 34 CFR 226.12. The maximum score for addressing all of the selection criteria is 100 points. The maximum score for addressing each criterion is indicated in parentheses and are as follows:

(a) Need for facility funding (30 points).

(1) The need for per-pupil charter school facility funding in the State.

(2) The extent to which the proposal meets the need to fund charter school facilities on a per-pupil basis.

(b) Quality of plan (40 points).

(1) The likelihood that the proposed grant project will result in the State either retaining a new per-pupil facilities aid program or continuing to enhance such a program without the total amount of assistance (State and Federal) declining over a five-year period.

(2) The flexibility charter schools have in their use of facility funds for the various authorized purposes.

(3) The quality of the plan for identifying charter schools and determining their eligibility to receive funds.

(4) The per-pupil facilities aid formula's ability to target resources to charter schools with the greatest need and the highest proportions of students in poverty.

(5) For projects that plan to reserve funds for evaluation, the quality of the applicant's plan to use grant funds for this purpose.

(6) For projects that plan to reserve funds for technical assistance, dissemination, or personnel, the quality of the applicant's plan to use grant funds for these purposes.

(c) The grant project team (10 points).

(1) The qualifications, including relevant training and experience, of the project manager and other members of the grant project team, including employees not paid with grant funds, consultants, and subcontractors.

(2) The adequacy and appropriateness of the applicant's staffing plan for the grant project.

(d) The budget (10 points).

(1) The extent to which the requested grant amount and the project costs are reasonable in relation to the objectives, design, and potential significance of the proposed grant project.

(2) The extent to which the costs are reasonable in relation to the number of students served and to the anticipated results and benefits.

(3) The extent to which the non-Federal share exceeds the minimum percentages (which are based on the percentages under section 4304(k)(2)(C) of the ESEA), particularly in the initial years of the program.

(e) State Experience (10 points).

(1) The experience of the State in addressing the facility needs of charter schools through various means, including providing per-pupil aid and access to State loan or bonding pools.

10. Program Authority: Section 4304(k) of the ESEA (20 U.S.C. 7221c(k)).

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200 (Uniform Guidance), as adopted and amended as regulations of the Department in 2 CFR part 3474. (d) The regulations for this program in 34 CFR part 226.

II. Application and Submission Information

1. Application Submission Instructions: Applicants are required to follow the Common Instructions for Applicants to Department of Education Discretionary Grant Programs, published in the Federal Register on December 23, 2024 (89 FR 104528) and available at https://www.federalregister.gov/documents/2024/12/23/2024-30488/common-instructions-for-applicants-to-department-of-education-discretionary-grant-programs.

2. Submission of Proprietary Information: Given the types of projects that may be proposed in applications for the State Charter School Facilities Incentive Grants Program, an application may include business information that is considered proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference funding restrictions in the Administrative Cost Limitation section of this notice. We reference additional regulations outlining funding restrictions in the Applicable Regulations section of this notice.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

6. Date of Pre-Application Webinar Information: The SFIG Program intends to hold a webinar designed to provide technical assistance to interested applicants. Detailed information regarding this webinar will be provided on the SFIG Program web page at https://www.ed.gov/grants-and-programs/grants-birth-grade-12/charter-school-programs/state-charter-school-facilities-incentive-grants.

Note: For new potential grantees unfamiliar with grantmaking at the Department, please consult our “Getting Started with Discretionary Grant Applications” web page at https://www.ed.gov/grants-and-programs/apply-grant/getting-started-discretionary-grant-applications.

III. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Note: As described in 34 CFR 226.14(c), the Secretary may elect to consider the points awarded under the competitive preference priorities only for proposals that exhibit sufficient quality to warrant funding under the selection criteria.

2. Risk Assessment and Specific Conditions: Before awarding grants under this program the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

IV. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary. The Secretary may also require more frequent performance reports. For specific requirements on reporting, please go to www.ed.gov/fund/grant/apply/appforms/appforms.html.

5. Performance Measures: The Department has developed the following performance measure for the purpose of Department reporting under 34 CFR 75.110:

(a) Program Performance Measures. (1) The ratio of funds leveraged by States for charter school facilities to funds awarded by the Department under the program. Grantees must provide information that is responsive to this measure as part of their annual performance reports.

(2) In accordance with 34 CFR 75.110(b), applications must describe:

(i) The data collection and reporting methods the applicant would use and why those methods are likely to yield reliable, valid, and meaningful performance data.

(ii) The applicant's capacity to collect and report the quality of the performance data, as evidenced by quality data collection, analysis, and reporting in other projects or research.

(b) Project-Specific Performance Measures. Applicants must propose project-specific performance measures and performance targets consistent with the objectives of the proposed project. In accordance with 34 CFR 75.110(c), applications must include the following:

(1) Project-specific performance measures. How each proposed project-specific performance measure would: accurately measure the performance of the project; be consistent with the program performance measures established under paragraph (a) of this section; and be used to inform continuous improvement of the project.

(2) Baseline data. (i) Why each proposed baseline is valid and reliable, including an assessment of the quality data used to establish the baseline; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

All grantees must submit an annual performance report with information that is responsive to these performance measures.

6. Data Collection and Reporting: (i) The data collection and reporting methods the applicant would use and why those methods are likely to yield reliable, valid, and meaningful performance data; and (ii) The applicant's capacity to collect and report reliable, valid, and meaningful performance data, as evidenced by high-quality data collection, analysis, and reporting in other projects or research.

Note: If applicants do not have experience with collection and reporting of performance data through other projects or research, they should provide other evidence of their capacity to successfully carry out data collection and reporting for their proposed project.

7. Continuation Awards: In making a continuation award, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department.

8. Project Directors' Meeting: Applicants approved for funding under this competition must attend a meeting for project directors at a location to be determined in the continental United States during each year of the project. Applicants may include the cost of attending this meeting as an administrative cost in their proposed budgets.

9. Technical Assistance: Grantees under this competition must participate in all program technical assistance offerings provided by the Department and its contractual technical assistance providers and partners throughout the life of the project.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at: www.federalregister.gov. Specifically, through the advanced search feature at this site, you can limit your search to documents published by the Department.

Hayley B. Sanon,
Principal Deputy Assistant Secretary and Acting Assistant Secretary, Office of Elementary and Secondary Education.

[FR Doc. 2025-08093 Filed 5-8-25; 8:45 am]

BILLING CODE 4000-01-P